DEPARTMENT OF ENERGY

Federal Energy Regulatory Commission

[Docket No. RP99-257-006]

Williams Gas Pipelines Central, Inc.; Notice of Proposed Changes in FERC Gas Tariff

Correction

In notice document 00-9597 appearing on page 20810 in the issue of Tuesday, April 18, 2000, the docket number is corrected to read as set forth above.

[FR Doc. C0-9597 Filed 4-21-00; 8:45 am]

BILLING CODE 1505-01-D

DEPARTMENT OF LABOR

Employment and Training Administration

Proposed Collection; Comment Request

Correction

In notice document 00-8445 beginning on page 18131 in the issue of Thursday, April 6, 2000, make the following correction:

On page 18131, in the third column, under OMB Number “205-0035” should read “1205-0035”.

[FR Doc. C0-8445 Filed 4-21-00; 8:45 am]

BILLING CODE 1505-01-D